DEPARTMENT OF ENERGY

Federal Energy Regulatory Commission

[Project No. 8402-004]

American Climate Partners; Notice of Intent To Prepare an Environmental Assessment

On October 12, 2023, American Climate Partners filed an application for surrender of the exemption for the Rapidan Mill Hydroelectric Project No. 8402. The project is located in Rapidan, on Rapidan River in Orange and Culpeper counties, Virginia. The project does not occupy federal lands.

The exemptee proposes to surrender its exemption. To decommission the project, the exemptee proposes to remove the equipment used to operate the turbine preventing future generation. No physical changes to any project features are planned and no ground disturbance would occur under this proposal. The dam would remain in place. After Commission jurisdiction ends, however, the exemptee indicates that the dam may be removed in collaboration with several other federal and state resource agencies. The Commission issued public notice of the proposed surrender on February 23, 2024.

This notice identifies Commission staff's intention to prepare an environmental assessment (EA) for the project.¹ The planned schedule for the completion of the EA is April 1, 2025. Revisions to the schedule may be made as appropriate. The EA will be issued and made available for review by all interested parties and a 30-day comment period. All comments filed on the EA will be reviewed by staff and considered in the Commission's final decision on the proceeding.

¹ In accordance with the Council on Environmental Quality's regulations, the unique identification number for documents relating to this environmental review is EAXX-019-20-000-1728462572. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Dated: October 15, 2024.
Debbie-Anne A. Reese,
Secretary.

[FR Doc. 2024-24377 Filed 10-18-24; 8:45 am]

BILLING CODE 6717-01-P